DEPARTMENT OF ENERGY

Federal Energy Regulatory Commission

Combined Notice of Filings #1

Take notice that the Commission received the following electric rate filings:

Docket Numbers: ER12-1736-001

Applicants: ITC Midwest LLC

Description: Compliance Filing of ITC Midwest to be effective 7/10/2012.

Filed Date: 8/27/12

Accession Number: 20120827-5101

Comments Due: 5 p.m. ET 9/17/12

Docket Numbers: ER12-2526-000

Applicants: AEP Texas Central Company

Description: Petronila Wind Farm PDA to be effective 7/31/2012.

Filed Date: 8/27/12

Accession Number: 20120827-5097

Comments Due: 5 p.m. ET 9/17/12

Docket Numbers: ER12-2527-000

Applicants: PJM Interconnection, L.L.C.

Description: Queue No. W3-122, Original Service Agreement No. 3394 to be effective 7/26/2012.

Filed Date: 8/27/12

Accession Number: 20120827-5100

Comments Due: 5 p.m. ET 9/17/12

Docket Numbers: ER12-2528-000

Applicants: High Mesa Energy, LLC

Description: Application for Market-Based Rate Authority to be effective 8/28/2012.

Filed Date: 8/27/12

Accession Number: 20120827-5138

Comments Due: 5 p.m. ET 9/17/12

Take notice that the Commission received the following open access transmission tariff filings:

Docket Numbers: OA12-6-000; TS12-3-000

Applicants: NaturEner Rim Rock Wind Energy, LLC

Description: Request for Waiver of Open Access Requirements of NaturEner Rim Rock Wind Energy, LLC.

Filed Date: 8/20/12

Accession Number: 20120820-5182

Comments Due: 5 p.m. ET 9/10/12

Take notice that the Commission received the following electric reliability filings

Docket Numbers: RD12-5-000

Applicants: North American Electric Reliability Corporation

Description: Errata of the North American Electric Reliability Corporation to Petition for Approval of an Interpretation to Reliability Standard CIP-002-4.

Filed Date: 8/21/12

Accession Number: 20120821-5012

Comments Due: 5 p.m. ET 9/4/12

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 28, 2012.
Nathaniel J. Davis, Sr.,
Deputy Secretary.

[FR Doc. 2012-21963 Filed 9-5-12; 8:45 am]

BILLING CODE 6717-01-P